DEPARTMENT OF ENERGY

Federal Energy Regulatory Commission

[Project No. P-2157-188]

Public Utility District No. 1 of Snohomish County; Notice of Application Tendered for Filing With the Commission and Establishing Procedural Schedule for Licensing and Deadline for Submission of Final Amendments

June 5, 2009.

Take notice that the following hydroelectric application has been filed with the Commission and is available for public inspection.

a. Type of Application: New Major License.

b. Project No.: P-2157-188.

c. Date Filed: June 1, 2009.

d. Applicant: Public Utility District No. 1 of Snohomish County.

e. Name of Project: Henry M Jackson Hydroelectric Project.

f. Location: The existing project is located on the Sultan River in Snohomish County, Washington, about 20 miles east of Everett, Washington. The project penstock underlies 10.9 acres of Mount Baker-Snoqualmie National Forest.

g. Filed Pursuant to: Federal Power Act 16 U.S.C. 791(a)-825(r).

h. Applicant Contact: Public Utility District No. 1 of Snohomish County (District), Steven J. Klein, General Manager, 2320 California Street, P.O. Box 1107, Everett, WA 98206-1107.

i. FERC Contact: David Turner (202) 502-6091 or via e-mail at david.turner@ferc.gov.

j. This application is not ready for environmental analysis at this time.

k. Project Description: The existing project consists of the following: (1) Spada Lake, with a surface area of 1,802 acres at a normal maximum water surface elevation of 1,445 feet msl; (2) Culmback dam, a 640-foot-long, 262-foot-high earth and rockfill dam with a crest elevation of 1,470 feet msl located at River Mile (RM) 16.5 on the Sultan River; (3) a concrete morning glory spillway with a crest elevation of 1,450 feet msl located approximately 250 feet from the right bank; (4) a system of conduits and valves under the dam which provide the minimum flow downstream of Culmback dam; (5) a 110-foot-tall concrete powerhouse intake structure located approximately 250 feet upstream of the dam with three 20-foot movable panels to allow withdrawal from different depths; (6) a penstock consisting of a 3.8-mile-long, 14-foot-diameter unlined tunnel leading to a 3.7-mile-long, 10-foot-diameter underground pipeline; (7) a two-story reinforced-concrete powerhouse located at RM 4.3; (8) four generating units with a total installed capacity of 111.8 MW; Units 1 and 2 are 47.5 MW Pelton turbines, which discharge water directly into a 40-foot-long discharge canal to the Sultan River; Units 3 and 4 are 8.4 MW Francis turbines, which discharge water through the Lake Chaplain water supply pipeline; (9) the approximately 3.5-mile-long, 72-inch-diameter Lake Chaplain water supply pipeline, which routes water from the Francis turbines to the Portal 2 structure at Lake Chaplain; (10) the Portal 2 structure, which diverts flows from the Lake Chaplain pipeline to Lake Chaplain (a 450-acre reservoir which serves as the City of Everett's water supply) or to the diversion dam tunnel and pipeline; (11) a 1.5-mile-long, concrete-lined tunnel and a 2,000-foot-long, 72-inch-diameter concrete pipeline connecting Lake Chaplain and the Sultan River immediately upstream of the diversion dam; (12) a 120-foot-long, 20-foot-high, concrete gravity diversion dam which was originally constructed to divert water from the Sultan River to Lake Chaplain; and (13) other appurtenant equipment. Project operations are guided by reservoir rule curves which are designed to minimize spill at Spada Lake while providing minimum flow releases to the Sultan River downstream of the diversion dam. The District proposes the following changes to the project: (1) Modifications to the project boundary that include additional land and exclude certain land included in the existing project boundary; (2) a new Operations Plan based on revised Spada Lake rule curves; (3) aquatic habitat enhancement measures; (4) measures to protect and enhance wildlife habitat; (5) measures to enhance recreational opportunities; and (6) measures to protect historic properties.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item (h) above.

m. You may also register online at http://www.ferc.gov/esubscribenow.htm to be notified via email of new filings and issuances related to this or other pending projects. For assistance, contact FERC Online Support.

n. Procedural Schedule:

The application will be processed according to the following Hydro Licensing Schedule. Revisions to the schedule may be made as appropriate. For example, issuance of the Ready for Environmental Analysis Notice is based on the assumption that there will be no additional information.

Milestone | Date
Application Deficiency Determination Letter and Issuance of Additional Information Requests (AIRs) | July 2009.
Notice of Acceptance/Notice of Ready for Environmental Analysis | July 2009.
Filing of Interventions, Recommendations, Terms and Conditions, and Fishway Prescriptions | September 2009.
Reply Comments Due | November 2009.
Issuance of Draft EA | March 2010.
Comments on Draft EA Due | April 2010.
Filing of Modified Terms and Conditions | June 2010.
Issuance of Final EA | September 2010.

o. Final amendments to the application must be filed with the Commission no later than 30 days from the issuance date of the notice of ready for environmental analysis.

Kimberly D. Bose,
Secretary.

[FR Doc. E9-13787 Filed 6-11-09; 8:45 am]

BILLING CODE 6717-01-P